DEPARTMENT OF JUSTICE

Notice of Lodging of Consent Decree Under the Comprehensive Environmental Response, Compensation, and Liability Act; Clean Water Act; and Oil Pollution Act

Notice is hereby given that on April 6, 2011, a proposed Consent Decree (the “Consent Decree”) in United States of America, on Behalf of the National Oceanic and Atmospheric Administration and the United States Department of the Interior; State of Washington through the Washington Department of Ecology; Muckleshoot Indian Tribe; and Puyallup Tribe of Indians v. Foss Maritime Company and Maritime Industries Northwest, Inc., No. 11-cv-5263, was lodged with the United States Western District of Washington. The Complaint alleged claims under section 107(a) of the Comprehensive Environmental Response, Compensation, and Liability Act (CERCLA), 42 U.S.C. 9607(a); section 311 of the Clean Water Act (CWA), 33 U.S.C. 1321; and section 1002(b) of the Oil Pollution Act (OPA), 33 U.S.C. 2702(b), for damages for injury to, destruction of, or loss of natural resources resulting from the release of hazardous substances and discharges of oil into the Middle Waterway of the Commencement Bay/Nearshore Tideflats Superfund site in Tacoma, Washington.

In settlement of the claims for injury to, destruction of, or loss of natural resources, the Defendants have agreed to preserve the site of a former marine dock at the mouth of Middle Waterway in perpetuity for use as a habitat restoration site, and will pay $7,802,081.29 in cash. In addition, the Defendants will pay $300,000.00 toward the Trustees' long-term restoration project oversight and stewardship activities and $700,000.00 to reimburse Trustee damage assessment costs.

During the public comment period, the Consent Decree may be examined on the following Department of Justice Web site, http://www.usdoj.gov/enrd/Consent_Decrees.html. A copy of the Consent Decree may also be obtained by mail from the Consent Decree Library, P.O. Box 7611, United States Department of Justice, Washington, DC 20044-7611 or by faxing or e-mailing a request to Tonia Fleetwood (tonia.fleetwood@usdoj.gov), fax no. (202) 514-0097, phone confirmation number (202) 514-1547.

The Department of Justice will receive, for a period of thirty (30) days from the date of this publication, comments relating to the Consent Decree. Comments should be addressed to the Assistant Attorney General, Environment and Natural Resources Division, and either e-mailed to pubcomment-ees.enrd@usdoj.gov or mailed to P.O. Box 7611, United States Department of Justice, Washington, DC 20044-7611, and should refer to United States v. Foss Maritime Company, et al. DJ. Ref. 90-11-2-729/2.

In requesting a copy from the Consent Decree Library, please enclose a check in the amount of $10.75 (25 cents per page reproduction cost) payable to the U.S. Treasury or, if by e-mail or fax, forward a check in that amount to the Consent Decree Library at the stated address.

Robert E. Maher, Jr.,
Assistant Section Chief, Environmental Enforcement Section, Environment and Natural Resources Division.

[FR Doc. 2011-9139 Filed 4-14-11; 8:45 am]

BILLING CODE 4410-15-P